DEPARTMENT OF AGRICULTURE

Food Safety and Inspection Service

[Docket No. FSIS-2014-0022]

Discontinuing Export Certificates for Food Products That Contain Egg Products as an Ingredient

AGENCY: Food Safety and Inspection Service, USDA.

ACTION: Notice.

SUMMARY: The Food Safety and Inspection Service (FSIS) is announcing that it will no longer issue export certificates for Food and Drug Administration (FDA)-regulated prepared or manufactured food products that contain egg products as an ingredient because the Agricultural Marketing Service has instituted a program to provide this service. FSIS will discontinue issuing certificates on November 10, 2014.

ADDRESSES: FSIS invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, U.S. Department of Agriculture, Food Safety and Inspection Service, Docket Clerk, Patriots Plaza 3, 1400 Independence Avenue SW., Mailstop 3782, Room 8-163A, Washington, DC 20250-3700.

• Hand- or courier-delivered submittals: Deliver to Patriots Plaza 3, 355 E Street SW., Room 8-163A, Washington, DC 20250-3700.

Instructions: All items submitted by mail or electronic mail must include the Agency name and docket number FSIS-2014-0022. Comments received in response to this docket will be made available for public inspection and posted without change, including any personal information, to http://www.regulations.gov.

Docket: For access to background documents or comments received, go to the FSIS Docket Room at Patriots Plaza 3, 355 E Street SW., Room 8-163A, Washington, DC 20250-3700, between 8:00 a.m. and 4:30 p.m., Monday through Friday.

DATES: Submit comments on or before November 10, 2014.

FOR FURTHER INFORMATION CONTACT: Rita Kishore, Deputy Director, Import/Export Coordination and Policy Development Staff, Office of Policy and Program Development, Food Safety and Inspection Service, U.S. Department of Agriculture; Phone: (202) 720-0082; Fax: (202) 720-7990.

SUPPLEMENTARY INFORMATION:

Background

On April 3, 2013, the U.S. Department of Agriculture's (USDA) Agricultural Marketing Service (AMS) announced the establishment of the Processed Egg and Egg Products Export Program. Established under the Agricultural Marketing Act of 1946 (7 U.S.C. 1621 et seq.), the new program ¹ facilitates the export of FDA-regulated prepared or manufactured food products containing eggs or egg products. Under the new program, AMS certifies a wide range of foods, including cooked omelets, frozen egg patties, crepes, hard boiled eggs, mayonnaise, and foods containing egg extracts. AMS performs onsite verification of public health certification statements and issues export certificates on a fee-for-service basis as part of the program.

¹ USDA Announces Program to Facilitate the Export of Further Processed Eggs and Egg Products.

While FDA regulates the safe production, sanitary processing, and labeling of food products containing egg products (Federal Food, Drug, and Cosmetic Act) (21 U.S.C. 301-399(d)), FSIS has been issuing export certificates of wholesomeness for prepared or manufactured food products that contain egg products as an ingredient since it assumed responsibility for conducting the Federal egg products inspection program from AMS on May 28, 1995.² However, because AMS has now instituted an export certification program of its own, to avoid overlap and confusion, FSIS will discontinue issuing export certificates for prepared or manufactured food products containing egg products. FSIS will stop certifying these products for export on November 10, 2014.

² Federal Crop Insurance Reform and Department of Agriculture Reorganization Act of 1994, Public Law 103-354, Oct. 13, 1994, 108 Stat. 3178.

FSIS will also update the FSIS Export Library on November 10, 2014 to show this change in the export certification process. Exporters should contact AMS for assistance. Additional information can be found on AMS's Web site at http://www.ams.usda.gov/AMSv1.0/PYEggExport and http://www.ams.usda.gov/AMSv1.0/PYEggExportProcessedEgg.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442

Email

program.intake@usda.gov

Persons with disabilities who require alternative means for communication (Braille, large print, audiotape, etc.), should contact USDA's TARGET Center at (202) 720-2600 (voice and TDD).

Done at Washington, DC, on: September 5, 2014.
Alfred V. Almanza,
Administrator.

[FR Doc. 2014-21554 Filed 9-9-14; 8:45 am]

BILLING CODE 3410-DM-P